DEPARTMENT OF VETERANS AFFAIRS

[OMB Control No. 2900-0783]

Agency Information Collection Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before January 15, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0783” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0783, Non-Profit Research and Education Corporations (NCPs) Data Collection.”

SUPPLEMENTARY INFORMATION: Title: Non-Profit Research and Education Corporations (NCPs) Data Collection, VA Forms 10-1073; 10-10073A; 10-10073B, 10-10073C.

Type of Review: Revision of an existing collection.

Abstract: The combined NPC Annual Report to Congress is described in Section 7366(d) “The Secretary (DVA) shall submit to the Committees on Veterans' Affairs of the Senate and House of Representatives an annual report on the corporation (NPCs) established under this subchapter.” Section 7366(d) goes on to list some of the specific information required by Congress. The sources for all of the information contained in the NPC Annual Report to Congress are the individual NPC Annual Report Templates submitted by each of the NPCs.

a. VA Form 10-10073, NPC Annual Report Template

b. VA Form 10-10073A, NPC Audit Actions Items Remediation Plans

c. VA Form 10-10073B, NPPO Internal Control Questionnaire

d. VA Form 10-10073C, NPPO Operations Oversight Questionnaire

An agency may not conduct or sponsor, and a person is not required to respond to a collection of information unless it displays a currently valid OMB control number. The Federal Register Notice with a 60-day comment period soliciting comments on this collection of information was published on August 29, 2013, Vol. 78, No. 168, page 53508.

Affected Public: Individuals or households.

Estimated Annual Burden: 858.

Estimated Average Burden per Respondent: 2.861 hours.

Frequency of Response: Once.

Estimated Number of Respondents: 300.

Dated: December 11, 2013.
By direction of the Secretary.
Crystal Rennie,
VA Clearance Officer, U.S. Department of Veterans Affairs.

[FR Doc. 2013-29801 Filed 12-13-13; 8:45 am]

BILLING CODE 8320-01-P